DEPARTMENT OF COMMERCE

International Trade Administration

[A-428-815]

Corrosion-Resistant Carbon Steel Flat Products from Germany: Rescission of Antidumping Duty Administrative Review

AGENCY: Import Administration, International Trade Administration, Department of Commerce.

SUMMARY: In response to a request from United States Steel Corporation, petitioner (“U.S. Steel”), the Department of Commerce (“the Department”) initiated an administrative review of the antidumping duty order on corrosion-resistant carbon steel flat products (“CORE”) from Germany. See Initiation of Antidumping and Countervailing Duty Administrative Reviews and Requests for Revocation in Part, 72 FR 54428 (September 25, 2007). This administrative review covers the period August 1, 2006, through July 31, 2007. We are now rescinding this review due to a request by U.S. Steel to rescind the review.

DATES: Effective Date: January 23, 2008.

FOR FURTHER INFORMATION CONTACT: John Drury or Angelica Mendoza, AD/CVD Operations, Office 7, Import Administration, International Trade Administration, U.S. Department of Commerce, 14th Street and Constitution Avenue, NW., Room 7866, Washington, DC 20230; telephone: (202) 482-0195 or (202) 482-3019, respectively.

Background

The Department published an antidumping duty order on CORE from Germany on August 19, 1993. See Antidumping Duty Orders and Amendments to Final Determinations of Sales at Less Than Fair Value: Certain Hot Rolled Carbon Steel Flat Products, Certain Cold-Rolled Carbon Steel Flat Products, Certain Corrosion-Resistant Carbon Steel Flat Products and Certain Cut-to-Length Carbon Steel Plate from Germany, 58 FR 44170 (August 19, 1993). The Department published a notice of “Opportunity to Request an Administrative Review” of the antidumping duty order for the period August 1, 2006, through July 31, 2007, on August 2, 2007. See Antidumping or Countervailing Duty Order, Finding, or Suspended Investigation; Opportunity To Request Administrative Review, 72 FR 42383 (August 2, 2007). U.S. Steel requested that the Department conduct an administrative review of sales of merchandise covered by the order by ThyssenKrupp Steel AG (“ThyssenKrupp”) on August 31, 2007. In response to the request from U.S. Steel, the Department published the initiation of the antidumping duty administrative review on CORE from Germany on September 25, 2007. See Initiation of Antidumping and Countervailing Duty Administrative Reviews and Requests for Revocation in Part, 72 FR 54428 (September 25, 2007).

The Department issued a questionnaire to ThyssenKrupp on October 19, 2007. The Department received responses from ThyssenKrupp on December 3, 2007, and December 18, 2007. U.S. Steel withdrew its request for review with respect to ThyssenKrupp on December 26, 2007.

Rescission of the Administrative Review

Pursuant to 19 CFR 351.213(d)(1), the Secretary will rescind an administrative review under this section, in whole or in part, if a party that requested a review withdraws the request within 90 days of the date of publication of notice of initiation of the requested review. The Secretary may extend this time limit if the Secretary decides that it is reasonable to do so. See 19 CFR 351.213(d)(1). U.S. Steel's request is timely, as 90 days fell on December 24, 2007, which was a holiday. As December 25, 2007, was also a holiday, U.S. Steel could not have submitted a request to rescind the review until the first business day after the holidays, or December 26, 2007. Additionally, no party has objected to the termination of the review. Therefore, the Department determines that the continuation of the administrative review is not necessary.

In response to U.S. Steel's withdrawal of its request for administrative reviews pursuant to 19 CFR 351.213(d)(1), the Department hereby rescinds the administrative review of the antidumping duty order on CORE from Germany for the period August 1, 2006, through July 31, 2007. The Department intends to issue assessment instructions to CBP 15 days after the date of publication of this rescission of administrative review.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation.

This notice is published in accordance with sections 751(a)(1) and 777(i)(1) of the Tariff Act of 1930, as amended, and 19 CFR 351.213(d)(4).

Dated: January 15, 2008.
Stephen J. Claeys,
Deputy Assistant Secretary for Import Administration.

[FR Doc. E8-1101 Filed 1-22-08; 8:45 am]

BILLING CODE 3510-DS-P